DEPARTMENT OF HOMELAND SECURITY

Transportation Security Administration

TSA Confirm.ID User Fee

AGENCY: Transportation Security Administration, DHS.

ACTION: Notice.

SUMMARY: On November 20, 2025, the Transportation Security Administration (TSA) published a notice announcing the launch of a fee-funded modernized alternative identity verification program for individuals who present at the TSA checkpoint without the required acceptable form of identification (AFOID), such as a REAL ID or passport. TSA is announcing the rebranding of the modernized program now identified as “TSA Confirm.ID”. To address the government-incurred costs of operating the new program, including an updated review and revision of relevant population estimates and costs, TSA sets the TSA Confirm.ID program fee for individuals who choose to use the program to $45.00.

DATES: This notice is effective December 3, 2025.

FOR FURTHER INFORMATION CONTACT: ORCA Comms, TSA/RCA, Identity Management, Transportation Security Administration, 6595 Springfield Center Drive, Springfield, VA 20598-6047; 866-289-9673; or email at ORCACommunications@tsa.dhs.gov.

SUPPLEMENTARY INFORMATION: You can find an electronic copy of this Notice using the internet by accessing the Government Publishing Office's web page at https://www.govinfo.gov/app/collection/FR to view the daily published Federal Register edition or accessing the Office of the Federal Register's web page at https://www.federalregister.gov. Copies are also available by writing or contacting the individual in the FOR FURTHER INFORMATION CONTACT section, or by email at ORCACommunications@tsa.dhs.gov.

Abbreviations and Terms Used in This Document

AFOID—Acceptable Form of Identification

TDC—Travel Document Checker

TSA—Transportation Security Administration

I. Background

On November 20, 2025, TSA published a notice announcing the establishment of a modernized alternative identity verification program for individuals who do not present the required AFOID at the TSA checkpoint (November Notice).¹ TSA's primary method of identity verification is matching the information on an individual's travel documentation with a TSA AFOID that the individual presents at the checkpoint.² TSA expects individuals to present an AFOID at the Travel Document Checker (TDC). For individuals who do not present an AFOID, TSA may provide the individual with an opportunity to participate in an alternative identification process to access the sterile area of the airport.

¹ 90 FR 52427 (November 20, 2025).

² TSA provides a list of acceptable IDs on its website (https://www.tsa.gov/travel/security-screening/identification).

This notice announces the rebranding of the modernized program announced in the November Notice, now identified as “TSA Confirm.ID”. The rebranding does not change the parameters of the program. Registering for the TSA Confirm.ID program and payment of the non-refundable fee does not guarantee that an individual's identity will be verified or that the individual will be provided access to the sterile area of the airport. Individuals who verify their identity using the TSA Confirm.ID program may still be subject to additional screening or experience delays.

The TSA Confirm.ID program is a registered traveler program.³ TSA is required to collect a non-refundable fee to cover the aggregate costs of any registered traveler program and impose the fee by notice published in the Federal Register.⁴ The fee is designed to fully recover TSA's costs of providing the TSA Confirm.ID program—including the initial development and deployment of the program—to individuals who choose to participate. TSA will not refund the fee, in whole or in part, to individuals whose identities are verified or to individuals whose identities are not verified or who are unable to enter the sterile area based upon the results of the identity verification process.

³ See Department of Homeland Security Appropriations Act, 2006, Public Law 109-90, sec. 540, (119 Stat. 2064, 2088-89 (Oct. 18, 2005)) (codified at 49 U.S.C. 114 note).

⁴ Id.

II. Updated Fee Announcement

In the November Notice, TSA stated that it would impose and collect a fee of $18.00 per person at the time an individual registers and requests alternative identity verification using TSA-approved payment methods. TSA is updating the fee associated with the TSA Confirm.ID based on review and revision of relevant population estimates and costs. The Fee Report now includes a revised estimate of the population likely to use the TSA Confirm.ID program, the impact of the fee on individuals' decisions to obtain an AFOID instead of paying the fee and TSA's implementation costs, which affect the total fee necessary to recover the costs of the program. Using the updated estimates and a revised methodology that accounts for usage rates based on similar historical and implementation trends, TSA recalculated overall costs and determined that the fee necessary to cover the costs of the TSA Confirm.ID program is slightly more than $45.00. TSA is rounding down to a set fee of $45.00. The $45.00 fee applies per individual, per 10-day use (provided the individual can successfully verify their identity for each use during the 10-day period).⁵

⁵ The same period of use was provided in the November Notice.

As noted above, TSA has updated the fee development report that provides a detailed discussion of the TSA Confirm.ID program's expected costs, updated expected population, and updated fee determination. A copy of the fee development report can be accessed at TSA.gov. In addition to this notice, TSA will publish additional information regarding the TSA Confirm.ID program at TSA.gov. TSA may update this fee and availability of the program in the future through publication of a notice in the Federal Register. Collection of the fee will begin when TSA announces that individuals may register for the TSA Confirm.ID program at TSA.gov.

Ha Nguyen McNeill,
Senior Official Performing the Duties of the Administrator, Transportation Security Administration.

[FR Doc. 2025-21830 Filed 12-1-25; 4:15 pm]

BILLING CODE 9110-05-P